DEPARTMENT OF HEALTH AND HUMAN SERVICES

Office of Refugee Resettlement

[CFDA Number 93.676]

Announcing the Award of Three Single-Source Program Expansion Supplement Grants to Unaccompanied Alien Children's Shelter Care Grantees

AGENCY: Office of Refugee Resettlement, ACF, HHS.

ACTION: The Office of Refugee Resettlement announces the award of three single-source program expansion supplement grants from its Unaccompanied Alien Children's Program to two organizations, Florence Crittenton Services of Orange County, Inc., in Fullerton, CA, and International Education Services, Inc., in Los Fresnos, TX.

SUMMARY: The Administration for Children and Families (ACF), Office of Refugee Resettlement (ORR) announces the award of a single-source program expansion supplement grant to two current grantees, for a total of $2,659,864. The additional funding provided by the awards will support services to unaccompanied alien children through September 30, 2012.

The supplement grant will support the expansion of bed capacity to meet the number of unaccompanied alien children referrals from the Department of Homeland Security (DHS). The funding program is mandated by Section 462 of the Homeland Security Act to ensure appropriate placement of all referrals from the DHS. The program is tied to DHS apprehension strategies and sporadic number of border crossers.

One expansion supplement award is made to Florence Crittenton Services of Orange County, Inc., in Fullerton, CA, in the amount of $226,800 to support expansion of bed capacity to meet the needs of the high number of unaccompanied alien children transferred from the DHS. Award funds will support services to unaccompanied alien children through September 30, 2012.

Two expansion supplement awards are made to International Education Services, Inc., in Los Fresnos, TX. One award for $1,588,827 will provide unaccompanied alien children with temporary 24-hour licensed shelter care in facilities in South Texas. The other award for $844,237 will support the International Education Services, Inc. Harlingen Foster Care Program that provides unaccompanied children with temporary 24-hour family care in private homes within the Cameron County in South Texas.

DATES: The period of support under these supplements is October 1, 2011 through September 30, 2012.

FOR FURTHER INFORMATION CONTACT: Kenneth Tota, Deputy Director, Office of Refugee Resettlement, Administration for Children and Families, 370 L'Enfant Promenade SW., Washington, DC 20447, Telephone (202) 401-4858.

SUPPLEMENTARY INFORMATION: The UAC program has specific requirements for the provision of services to unaccompanied alien children. These grantee organizations are the only entities with the infrastructure, licensing, experience, and appropriate level of trained staff to meet the required service requirements and the urgent need for the expansion of services required to respond to unexpected arrivals of unaccompanied children. The program expansion supplement will support such services and alleviate the buildup of children waiting in border patrol stations for placement in shelter care.

Statutory Authority: Awards announced in this notice are authorized by Section 462 of the Homeland Security Act, Pub. L. 6 U.S.C. 279(b)(A)-(J) and sections 235(a)(5)(C); 235(d) of the Trafficking Victims Protection Reauthorization Act of 2008, (8 U.S.C. 1232).

Eskinder Negash,
Director, Office of Refugee Resettlement.

[FR Doc. 2012-23247 Filed 9-19-12; 8:45 am]

BILLING CODE 4120-27-P